DEPARTMENT OF VETERANS AFFAIRS

Privacy Act of 1974; System of Records

AGENCY: Department of Veterans Affairs (VA).

ACTION: Notice of amendment of system of records.

SUMMARY: As required by the Privacy Act of 1974, 5 U.S.C. 552a(e), notice is hereby given that the Department of Veterans Affairs (VA) is amending the system of records currently entitled “Customer Relationship Management System (CRMS)-VA” (155VA16) as set forth in the Federal Register 77 FR 72123. VA is amending the system by revising the System Number, System Location, Categories of Individuals Covered by the System, Categories of Records in the System, Safeguards, and System Managers and Address. VA is republishing the system of records notice in its entirety.

DATES: Comments on this amended system of records must be received no later than April 2, 2015. If no public comment is received during the period allowed for comment or unless otherwise published in the Federal Register by the VA, the new system of records will become effective April 2, 2015.

ADDRESSES: Written comments concerning the proposed amended system of records may be submitted by: mail or hand-delivery to Director, Regulations Management (02REG), Department of Veterans Affairs, 810 Vermont Avenue NW., Room 1068, Washington, DC 20420; fax to (202) 273-9026; or email to http://www.Regulations.gov. All comments received will be available for public inspection in the Office of Regulation Policy and Management, Room 1063B, between the hours of 8:00 a.m. and 4:30 p.m., Monday through Friday (except holidays). Please call (202) 461-4902 (this is not a toll-free number) for an appointment.

FOR FURTHER INFORMATION CONTACT: Veterans Health Administration (VHA) Privacy Officer, Department of Veterans Affairs, 810 Vermont Avenue NW., Washington, DC 20420; telephone (704) 245-2492.

SUPPLEMENTARY INFORMATION: The System Number is changed from 155VA16 to 155VA10NB to reflect the current organizational alignment.

The System Location and the System Manager and Address sections are being amended to reflect a name change from Health Revenue Center to the Health Resource Center (HRC).

The Categories of Individuals Covered by the System is being amended to include information concerning secure messaging and web chat.

The Categories of Records in the System is being amended to include health care appointment request and general administrative pharmacy inquires.

Safeguards, number one, is being amended to state that all entrance doors to the HRC Topeka, KS and Waco, TX locations require an electronic pass card to gain entry. Number four is being amended to replace the Statement of Commitment and Understanding with the Rules of Behavior.

The Report of Intent to Amend a System of Records Notice and an advance copy of the system notice have been sent to the appropriate Congressional committees and to the Director of the Office of Management and Budget (OMB) as required by 5 U.S.C. 552a(r) (Privacy Act) and guidelines issued by OMB (65 FR 77677), December 12, 2000.

Signing Authority: The Secretary of Veterans Affairs, or designee, approved this document and authorized the undersigned to sign and submit the document to the Office of the Federal Register for publication electronically as an official document of the Department of Veterans Affairs. Jose D. Riojas, Chief of Staff, approved this document on February 10, 2015, for publication.

Dated: February 25, 2015.
Jeffrey M. Martin,
Program Manager, Regulation Policy and Management, Office of the General Counsel, Department of Veterans Affairs.

155VA10NB

SYSTEM NAME:

Customer Relationship Management System (CRMS)—VA

SYSTEM LOCATION:

Records and magnetic media are maintained at the Health Resource Center (HRC), Topeka, Kansas facility or at another OI&T approved location. Magnetic media are also stored at an OI&T approved location for contingency back-up purposes.

CATEGORIES OF INDIVIDUALS COVERED BY THE SYSTEM:

The records include information concerning telephone, secure messaging and web chat inquiries from Veterans, Veteran's family members, members of the general public, VA customers, and VA employees.

CATEGORIES OF RECORDS IN THE SYSTEM:

The records may include information related to:

1. Veteran health benefits eligibility and health care appointment request;

2. Veteran medical claims processing and payments;

3. Co-payments charged for medical care and prescriptions;

4. General administrative pharmacy inquiries;

5. General human resources management; e.g., employee benefits, recruitment/job applicants, etc.; and

6. Other information related to Veterans, Veteran's family members, members of the general public, VA customers, and VA employees.

AUTHORITY FOR MAINTENANCE OF THE SYSTEM:

Title 38, United States Code, sections 501(a), 1705, 1710, 1722, 1722(a), 1781 and Title 5, United States Code, section 552(a).

PURPOSE(S):

The records and information may be used for historical reference, quality assurance, training, and statistical reporting.

ROUTINE USES OF RECORDS MAINTAINED IN THE SYSTEM, INCLUDING CATEGORIES OF USERS AND THE PURPOSES OF SUCH USES:

To the extent that records contained in the system include information protected by 45 CFR parts 160 and 164, i.e., individually identifiable health information, and 38 U.S.C. 7332, i.e., medical treatment information related to drug abuse, alcoholism or alcohol abuse, sickle cell anemia or infection with the human immunodeficiency virus, that information cannot be disclosed under a routine use unless there is also specific statutory authority in 38 U.S.C. 7332 and regulatory authority in 45 CFR parts 160 and 164 permitting disclosure.

1. The record of an individual who is covered by this system of records may be disclosed to a Member of Congress, or a staff person acting for the Member, when the Member or staff person requests the record on behalf of and at the written request of the individual.

2. Disclosure may be made to National Archives and Records Administration (NARA) and the General Services Administration (GSA) in records management inspections conducted under authority of Tile, Chapter 29, of the Unites States Code (44 U.S.C.).

3. VA may disclose information in this system of records to the Department of Justice (DOJ), either on VA's initiative or in response to DOJ's request for the information, after either VA or DOJ determines that such information is relevant to DOJ's representation of the United States or any of its components in legal proceedings before a court or adjudicative body, provided that, in each case, the agency also determines prior to disclosure that release of the records to the DOJ is a use of the information contained in the records that is compatible with the purpose for which VA collected the records. VA, on its own initiative, may disclose records in this system of records in legal proceedings before a court or administrative body after determining that the disclosure of the records to the court or administrative body is a use of the information contained in the records that is compatible with the purpose for which VA collected the records.

4. Disclosure of relevant information may be made to individuals, organizations, private or public agencies, or other entities or individuals with whom VA has a contract or agreement or where there is a subcontract to perform such services as VA may deem practicable for the purposes of laws administered by VA, in order for the contractor or subcontractor to perform the services of the contract or agreement.

5. VA may disclose, on its own initiative, any information in this system, except the names and home addresses of Veterans and their dependents, that is relevant to a suspected or reasonably imminent violation of law, whether civil, criminal or regulatory in nature and whether arising by general or program statute or by regulation, rule or order issued pursuant thereto, to a Federal, State, local, tribal, or foreign agency charged with the responsibility of investigating or prosecuting such violation, or charged with enforcing or implementing the statute, regulation, rule or order. VA may also disclose on its own initiative the names and addresses of Veterans and their dependents to a Federal agency charged with the responsibility of investigating or prosecuting civil, criminal or regulatory violations of law, or charged with enforcing or implementing the statute, regulation, or order issued pursuant thereto.

6. Disclosure to other Federal agencies may be made to assist such agencies in preventing and detecting possible fraud or abuse by individuals in their operations and programs.

7. VA may, on its own initiative, disclose any information or records to appropriate agencies, entities, and persons when (1) VA suspects or has confirmed that the integrity or confidentiality of information in the system of records has been compromised; (2) the Department has determined that as a result of the suspected or confirmed compromise, there is a risk of embarrassment or harm to the reputations of the record subjects, harm to economic or property interests, identity theft or fraud, or harm to the security, confidentiality, or integrity of this system or other systems or programs (whether maintained by the Department or another agency or entity) that rely upon the potentially compromised information; and (3) the disclosure is to agencies, entities, or persons whom VA determines are reasonably necessary to assist or carry out the Department's efforts to respond to the suspected or confirmed compromise and prevent, minimize, or remedy such harm. This routine use permits disclosures by the Department to respond to a suspected or confirmed data breach, including the conduct of any risk analysis or provision of credit protection services as provided in 38 U.S.C. 5724, as the terms are defined in 38 U.S.C. 5727.

8. Disclosure may be made to those officers and employees of the agency that maintains the record who have a need for the record in the performance of their duties.

9. To disclose the information listed in 5 U.S.C. 7114(b)(4) to officials of labor organizations recognized under 5 U.S.C. Chapter 71 when relevant and necessary to their duties of exclusive representation concerning personnel policies, practices, and matters affecting working conditions.

10. To disclose information to officials of the Merit Systems Protection Board (MSPB), or the Office of the Special Counsel, when requested in connection with appeals, special studies of the civil service and other merit systems, review of rules and regulations, investigation of alleged or possible prohibited personnel practices, and such other functions, promulgated in 5 U.S.C. 1205 and 1206, or as may be authorized by law.

11. To disclose information from this system to the Equal Employment Opportunity Commission (EEOC) when requested in connection with investigations of alleged or possible discriminatory practices, examination of Federal affirmative employment programs, or other functions of the Commission as authorized by law or regulation.

12. To disclose to the Federal Labor Relations Authority (FLRA), including its General Counsel, information related to the establishment of jurisdiction, the investigation and resolution of allegations of unfair labor practices, or information in connection with the resolution of exceptions to arbitration awards when a question of material fact is raised; to disclose information in matters properly before the Federal Services Impasses Panel, and to investigate representation petitions and conduct or supervise representation elections.

POLICIES AND PRACTICES FOR STORING, RETRIEVING, ACCESSING, RETAINING, AND DISPOSING OF RECORDS IN THE SYSTEM:

STORAGE:

Records are stored on electronic media in a VA OI&T approved location.

RETRIEVABILITY:

Records are retrieved by name, social security number or other assigned identifiers of the individuals on whom they are maintained.

SAFEGUARDS:

1. All entrance doors to the HRC Topeka, KS and Waco, TX locations require an electronic pass card to gain entry. Hours of entry to the facility are controlled based on position held and special needs. Visitors to the HRC are required to sign-in at a specified location and are escorted the entire time they are in the building or they are issued a temporary visitors badge. At the end of the visit, visitors are required to turn in their badge. The building is equipped with an intrusion alarm system which is activated when any of the doors are forced open or held ajar for a specified length of time. During business hours, the security system is monitored by the VA police and HRC staff. After business hours, the security system is monitored by the VA telephone operator(s) and VA police. The VA police conduct visual security checks of the outside perimeter of the building.

2. Access to the building is generally restricted to HRC staff and VA police, specified custodial personnel, engineering personnel, and canteen service personnel.

3. Access to computer rooms is restricted to authorized VA OI&T personnel and requires entry of a personal identification number (PIN) with the pass card swipe. PIN's must be changed periodically. All other persons gaining access to computer rooms are escorted. Information stored in the computer may be accessed by authorized VA employees at remote locations including the Health Eligibility Center in Atlanta, GA; Health Administration Center in Denver, CO; Consolidated Patient Accounting Center in Ashville, NC; and VA health care facilities.

4. All HRC employees receive information security and privacy awareness training and sign the Rules of Behavior; training is provided to all employees on an annual basis. The HRC Information Security Officer performs an annual information security audit and periodic reviews to ensure security of the system.

5. For contingency purposes, database backups on magnetic media are stored off-site at an approve VA OI&T location.

RETENTION AND DISPOSAL:

Electronic Service Records are purged when they are no longer needed for current operation. Records are maintained and disposed of in accordance with records disposition authority approved by the Archivist of the United States, National Archives and Records Administration, and published in the VHA Records Control Schedule 10-1.

SYSTEM MANAGER(S) AND ADDRESS:

Official responsible for policies and procedures: Chief Business Officer (10NB), VA Central Office, 1722 I St. NW., Washington, DC 20420. Official maintaining the system: Director, Health Resource Center, 3401 SW 21st Street Bldg. 9, Topeka, Kansas 66604.

NOTIFICATION PROCEDURE:

Individuals who wish to determine whether this system of records contains information about them should contact the VA facility location at which they are or were employed or made or have contact. Inquiries should include the person's full name, social security number, dates of employment, date(s) of contact, and return address.

RECORD ACCESS PROCEDURE:

Individuals seeking information regarding access to and contesting of records in this system may write, call or visit the VA facility location where they are or were employed or made contact.

CONTESTING RECORD PROCEDURES:

(See Record Access Procedures above.)

RECORD SOURCE CATEGORIES:

Information in this system of records is provided by Veterans, Veteran's family members, members of the general public, VA customers, and VA employees.

[FR Doc. 2015-04315 Filed 3-2-15; 8:45 am]

BILLING CODE 8320-01-P